DEPARTMENT OF HEALTH AND HUMAN SERVICES

National Institutes of Health

National Cancer Institute Amended; Notice of Meeting

Notice is hereby given of a change in the meeting of the National Cancer Institute Special Emphasis Panel, May 23, 2013, 11:30 a.m. to May 23, 2013, 03:30 p.m., National Cancer Institute—Shady Grove, 9609 Medical Center Drive, Room 7W032, Rockville, MD 20850 which was published in the Federal Register on May 03, 2013, 78FR26056.

This notice is being amended due to a change in the meeting date and time from 11:30 a.m. to 3:30 p.m. on May 23, 2013 to 12:00 p.m. to 3:00 p.m. on May 22, 2013. The meeting is closed to the public.

Dated: May 7, 2013.
Melanie J. Gray,
Program Analyst, Office of Federal Advisory Committee Policy.

[FR Doc. 2013-11349 Filed 5-13-13; 8:45 am]

BILLING CODE 4140-01-P